DEPARTMENT OF HEALTH AND HUMAN SERVICES

National Institutes of Health

National Institute of Child Health and Human Development; Notice of Meeting

Pursuant to section 10(d) of the Federal Advisory Committee Act, as amended (5 U.S.C. Appendix 2), notice is hereby given of a meeting of the National Advisory Child Health and Human Development Council.

The meeting will be open to the public, with attendance limited to space available. Individuals who plan to attend and need special assistance, such as sign language interpretation or other reasonable accommodations, should notify the Contact Person listed below in advance of the meeting.

Name of Committee:National Advisory Child Health and Human Development Council; NACHHD Subcommittee on Planning and Policy.

Date: January 7, 2008.

Time: 3 p.m. to 4 p.m.

Agenda:Topics to be discussed include: (1) Report of the Director; (2) Budget Updates; (3) Legislative Updates.

Place:National Institutes of Health, Building 31, 31 Center Drive, Bethesda, MD 20892(Telephone Conference Call).

Contact Person:Susanne Strickland, Acting Deputy Director for Science Policy, Analysis & Communication, NICHD/NIH/DHHS, 31 Center Drive, Suite 2A-18, Bethesda, MD 20892, 301-435-3440.

Information is also available on the Institute's/Center's home page: www.nichd.nih.gov/about/nachhd.htm, where an agenda and any additional information for the meeting will be posted when available.

(Catalogue of Federal Domestic Assistance Program Nos. 93.864, Population Research; 93.865, Research for Mothers and Children; 93.929, Center for Medical Rehabilitation Research; 93.209, Contraception and Infertility Loan Repayment Program, National Institutes of Health, HHS)

Dated: December 7, 2007.
Jennifer Spaeth,
Director, Office of Federal Advisory Committee Policy.

[FR Doc. 07-6047 Filed 12-13-07; 8:45 am]

BILLING CODE 4140-01-M